ENVIRONMENTAL PROTECTION AGENCY

[EPA-HQ-OW-2012-0035; FRL-9624-9]

40 CFR Parts 141 and 142

Announcement of Public Meeting on the Consumer Confidence Report (CCR) Rule Retrospective Review

AGENCY: Environmental Protection Agency (EPA).

ACTION: Notice of a public meeting.

SUMMARY: The Environmental Protection Agency (EPA) will be holding a public meeting via the Internet on February 23, 2012, to obtain stakeholder input on the Consumer Confidence Report (CCR) Rule as part of the agency's Retrospective Review of Existing Regulations. EPA plans to discuss electronic delivery of CCRs, resource implications for implementing CCR delivery certification, use of CCRs to meet Tier 3 Public Notification requirements, and how contaminant levels are reported in the CCR. EPA invites the public to participate in this information exchange on the CCR rule. The instructions for registration for the meeting are located in the SUPPLEMENTARY INFORMATION section of this notice.

DATES: The webinar will be held on February 23, 2012, from 2 p.m. to 4 p.m., Eastern Standard Time. The web dialogue will be available from February 23, 2012, to March 9, 2012.

How To Access Information: EPA has established a docket for this activity under Docket ID No. EPA-HQ-OW-2012-0035; background information (including the CCR and Public Notification rules) are available in this docket. Comments received on the Preliminary Plan for Periodic Retrospective Reviews of Existing Regulations are available for viewing in EPA's Docket No. EPA-HQ-OA-2011-0154. Publicly available docket materials are available either electronically through www.regulations.gov or in hard copy at the Water Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: Adrienne Harris, Drinking Water Protection Division, Office of Ground Water and Drinking Water (MC4606M), Environmental Protection Agency, 1200 Pennsylvania Ave. NW., Washington, DC 20460 at (202) 250-8793 or CCRRetrospectiveReview@epa.gov.

SUPPLEMENTARY INFORMATION: Listening Session Registration: Individuals planning on participating in the Listening Session must register for the meeting at https://www3.gotomeeting.com/register/396514342.

Web Dialogue Registration: Individuals planning on participating in the web dialogue discussions must join the community at http://CCRRetrospectiveReview.ideascale.com.

The web dialogue will be available from February 23, 2012, to March 9, 2012, for the public to share and post comments on the dialogue.

Special Accommodations: For information on access or accommodations for individuals with disabilities, please contact Adrienne Harris at (202) 250-8793 or by email at CCRRetrospectiveReview@epa.gov. Please allow at least five business days prior to the meeting to give EPA time to process your request.

Background: Consumer Confidence Reports are a key part of the public's right-to-know as established in the 1996 Amendments to the Safe Drinking Water Act (SDWA, section 1414(c)). The Consumer Confidence Report, or CCR, is an annual water quality report that a community water system is required by Federal regulations (63 FR 44511, August 19, 1998) to provide to its customers each year. Community water systems (CWSs) serving 10,000 or more persons are required to mail or otherwise directly deliver these reports. States may allow CWSs serving fewer than 10,000 persons to provide these reports by other means. The report lists the regulated contaminants found in the drinking water, as well as health effects information related to violations of the drinking water standards. More information on CCRs can be accessed on EPA's Web site at http://water.epa.gov/lawsregs/rulesregs/sdwa/ccr/index.cfm.

In August 2011, the Environmental Protection Agency (EPA) finalized its Improving Our Regulations: Final Plan for Periodic Retrospective Reviews of Existing Regulations in response to E.O. 13563. Since 1998, when the CCR rule was finalized, the communication of information and the speed with which information can be shared have greatly expanded, along with a corresponding increase in the diversity of communication tools. The EPA included the CCR rule in its retrospective review plan to explore ways to promote greater transparency and public participation in protecting the nation's drinking water. The agency's CCR retrospective review will look for opportunities to improve the effectiveness of communicating drinking water information to the public, while lowering the burden on water systems and States. One example suggested by water systems is to allow electronic delivery through email, thereby reducing mailing charges. As EPA evaluates alternative delivery options and other opportunities to improve communication with consumers, the agency will consider impacts on consumer burden, environmental justice, and State implementation. By improving communication, customers are better prepared to make informed decisions and the readership of CCRs also may increase.

Dated: January 25, 2012.
Cynthia C. Dougherty,
Director, Office of Ground Water and Drinking Water.

[FR Doc. 2012-2025 Filed 2-2-12; 8:45 am]

BILLING CODE 6560-50-P